DEPARTMENT OF COMMERCE

National Oceanic and Atmospheric Administration

[I.D. 012803B]

Endangered Species; Permits 1316

AGENCY: National Marine Fisheries Service (NMFS), National Oceanic and Atmospheric Administration (NOAA), Commerce.

ACTION: Issuance of permit modification

SUMMARY: Notice is hereby given that Dr. Jeff Schmid, The Conservancy of Southwest Florida, 1450 Merrihue Drive, Naples, FL 34102, has been issued a modification to scientific research permit No. 1316.

ADDRESSES: The permit and related documents are available for review upon written request or by appointment in the following office(s):

Permits, Conservation and Education Division, Office of Protected Resources, NMFS, 1315 East-West Highway, Room 13705, Silver Spring, MD 20910; phone (301)713-2289; fax (301)713-0376.

FOR FURTHER INFORMATION CONTACT: Ruth Johnson or Carrie Hubard, (301)713-2289).

SUPPLEMENTARY INFORMATION: On August 28, 2002, notice was published in the Federal Register (67 FR 55201) that an amendment of Permit No. 1316 issued January 8, 2002 (67 FR 38648), had been requested by the above-named individual. The requested amendment has been granted under the authority of the Endangered Species Act of 1973, as amended (ESA; 16 U.S.C. 1531 et seq.) and the regulations governing the taking, importing, and exporting of endangered and threatened species (50 CFR 222-226).

Modification no. 2 to permit no. 1316 allows the Holder to take up to 30 Kemp's ridley sea turtles for purposes of scientific research.

Issuance of this amendment, as required by the ESA was based on a finding that such permit (1) was applied for in good faith, (2) will not operate to the disadvantage of the endangered species which is the subject of this permit, and (3) is consistent with the purposes and policies set forth in section 2 of the ESA.

Dated: February 24, 2003.
Stephen L. Leathery,
Chief, Permits, Conservation and Education Division, Office of Protected Resources, National Marine Fisheries Service.

[FR Doc. 03-4820 Filed 2-28-03; 8:45 am]

BILLING CODE 3510-22-S